DEPARTMENT OF THE INTERIOR

National Park Service

[NPS-WASO-NAGPRA-NPS0037168; PPWOCRADN0-PCU00RP14.R50000]

Notice of Inventory Completion: San Jose State University, San Jose, CA

AGENCY: National Park Service, Interior.

ACTION: Notice.

SUMMARY: In accordance with the Native American Graves Protection and Repatriation Act (NAGPRA), San Jose State University (SJSU) has completed an inventory of human remains and associated funerary objects and has determined that there is no cultural affiliation between the human remains and associated funerary objects and any federally-recognized Indian Tribe. The human remains and associated funerary objects were removed from Santa Clara County, CA.

DATES: Disposition of the human remains and associated funerary objects in this notice may occur on or after February 2, 2024.

ADDRESSES: Charlotte Sunseri, Ph.D., San Jose State University, One Washington Square, San Jose, CA 95192-0113, telephone (408) 924-5713, email charlotte.sunseri@sjsu.edu.

SUPPLEMENTARY INFORMATION: This notice is published as part of the National Park Service's administrative responsibilities under NAGPRA. The determinations in this notice are the sole responsibility of San Jose State University. The National Park Service is not responsible for the determinations in this notice. Additional information on the determinations in this notice, including the results of consultation, can be found in the inventory or related records held by San Jose State University.

Description

Human remains representing, at minimum, 89 individuals were removed from Santa Clara County, CA. The Santa Clara County collection was recovered in various projects from 1960 to 1995. Some West Valley College holdings were transferred to SJSU in a memorandum establishing legal control by SJSU in 2022 and comprise a fraction of the overall holdings. The collections come from the sites of CA-SCL-2A, CA-SCL-7A, CA-SCL-68, CA-SCL-125, CA-SCL-128, CA-SCL-134, CA-SCL 204, CA-SCL-314, CA-SCL-870 Schiele Ave, CA-SCL-895, Stockard House, Pfeiffer Ranch, Capitol Expressway STA-001, Campbell School District, Izora Way, Wardell Court Saratoga, Warburton Collection, Dick's Market Site (WVC-8), and Rajkevich Site (WVC-13/14). The 77 lots of associated funerary objects include groundstone (mortars, pestles), other artifacts, faunal remains and shell, charcoal, and soil samples.

Aboriginal Land

The human remains and associated funerary objects in this notice were removed from known geographic locations. These locations are the aboriginal lands of one or more federally-recognized Indian Tribes. These locations are also the aboriginal lands of the Ohlone/Costanoan Tribes recognized by the State of California. The following information was used to identify the aboriginal land: California Native American Heritage Commission (NAHC) Tribal Consultation Contact List for implementing AB275 (dated: 7/28/2021, 9/30/2021), Unratified Treaty A “Treaty at Camp Belt (May 13, 1851)”, Unratified Treaty B “Treaty at Camp Keyes (May 30, 1851)”, Unratified Treaty M “Treaty at Camp Fremont (March 19, 1851)”, and Unratified Treaty N “Treaty at Camp Barbour (April 29, 1851)” (Heizer 1972).

Determinations

Pursuant to NAGPRA and its implementing regulations, and after consultation with the appropriate Indian Tribes, San Jose State University has determined that:

• The human remains described in this notice represent the physical remains of 89 individuals of Native American ancestry.

• The 77 boxes of objects described in this notice are reasonably believed to have been placed with or near individual human remains at the time of death or later as part of the death rite or ceremony.

• No relationship of shared group identity can be reasonably traced between the human remains and associated funerary objects and any federally-recognized Indian Tribe.

• The human remains and associated funerary objects described in this notice were removed from the aboriginal land of the Buena Vista Rancheria of Me-Wuk Indians of California; California Valley Miwok Tribe, California; Chicken Ranch Rancheria of Me-Wuk Indians of California; Ione Band of Miwok Indians of California; Jackson Band of Miwuk Indians; Picayune Rancheria of Chukchansi Indians of California; Santa Rosa Indian Community of the Santa Rosa Rancheria, California; Table Mountain Rancheria; and the Tule River Indian Tribe of the Tule River Reservation, California.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after February 2, 2024. If competing requests for disposition are received, San Jose State University must determine the most appropriate requestor prior to disposition. Requests for joint disposition of the human remains and associated funerary objects are considered a single request and not competing requests. San Jose State University is responsible for sending a copy of this notice to the Indian Tribes identified in this notice.

Authority: Native American Graves Protection and Repatriation Act, 25 U.S.C. 3003, and the implementing regulations, 43 CFR 10.9 and 10.11.

Dated: December 20, 2023.
Melanie O'Brien,
Manager, National NAGPRA Program.

[FR Doc. 2023-28923 Filed 1-2-24; 8:45 am]

BILLING CODE 4312-52-P